DEPARTMENT OF THE INTERIOR

Fish and Wildlife Service

[FWS-R8-R-2012-N115; 81683-1265-0000-S3]

Seal Beach National Wildlife Refuge, Orange County, CA; Final Comprehensive Conservation Plan and Finding of No Significant Impact

AGENCY: Fish and Wildlife Service, Interior.

ACTION: Notice of availability.

SUMMARY: We, the U.S. Fish and Wildlife Service (Service), announce the availability of our final Comprehensive Conservation Plan (CCP) and finding of no significant impact (FONSI) for the Seal Beach National Wildlife Refuge (Refuge). In the CCP, we describe how we will manage the Refuge for the next 15 years.

DATES: The CCP and FONSI are available now. The FONSI was signed on September 30, 2011. The Final CCP was signed on May 18, 2012 and implementation of the CCP is underway.

ADDRESSES: You may view or obtain copies of the Final CCP and FONSI/EA by any of the following methods. You may request a hard copy or CD-ROM.

Agency Web site: Download a copy of the document(s) at http://www.fws.gov/refuge/Seal_Beach/what_we_do/planning.html.

Email: Victoria_Touchstone@fws.gov. Include “Seal Beach CCP” in the subject line of the message.

Fax: Attn: Victoria Touchstone, (619) 476-9150, extension 103.

Mail: Victoria Touchstone, U.S. Fish and Wildlife Service, San Diego NWR Complex, P.O. Box 2358, Chula Vista, CA 91912.

In-Person Viewing or Pickup: Copies of the Final CCP and FONSI may also be viewed at the San Diego National Wildlife Refuge Complex, 1080 Gunpowder Point Drive, Chula Vista, CA 91910 (call 619-476-9150, extension 103, for directions and hours).

Local Library: The full document is also available at the Seal Beach/Mary Wilson Library, 707 Electric Avenue, Seal Beach, CA 90740.

FOR FURTHER INFORMATION CONTACT: Victoria Touchstone, Refuge Planner, at 619-476-9150, extension 103 (see ADDRESSES), or Kirk Gilligan, Refuge Manager, at 562-598-1024.

SUPPLEMENTARY INFORMATION:

Background

Legislation authorizing the establishment of the Seal Beach National Wildlife Refuge was signed by President Richard M. Nixon on August 29, 1972. The Refuge boundaries, which are located entirely within Naval Weapons Station Seal Beach, were determined by the Secretary of the Interior with the advice and consent of the Secretary of the Navy. In accordance with the authorizing legislation, the Refuge is to be managed pursuant to the National Wildlife Refuge System Administration Act of 1966, as amended, and pursuant to plans that are mutually acceptable to the Secretary of the Interior and the Secretary of the Navy. The 956-acre Refuge was officially established on July 11, 1974, following approval of a general management plan for the Refuge by the Service and the Navy. Refuge purposes include preservation and management of habitat for endangered species (i.e., light-footed clapper rail, California least tern) and preservation of habitat to support migratory waterfowl, shorebirds, and other water birds.

We announce our decision and the availability of the FONSI for the final CCP for the Seal Beach NWR in accordance with National Environmental Policy Act (NEPA) (40 CFR 1506.6(b)) requirements. We completed a thorough analysis of impacts on the human environment, which we included in the environmental assessment (EA) that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation. We intend to review and update the CCP at least every 15 years in accordance with the Administration Act.

Our draft CCP and EA were available for a 45-day public review and comment period, which we announced via several methods, including press releases, updates to constituents, and a Federal Register notice (76 FR 16634; March 24, 2011). The draft CCP/EA identified and evaluated three alternatives for managing the Refuge for the next 15 years.

Under Alternative A (No Action), management would continue unchanged. Under Alternative B, the Service would expand current management to include evaluation of current Refuge baseline data for fish, wildlife, and plants; identification of data gaps; implementation of species surveys to address data gaps; restoration of intertidal and native upland habitat; implementation of an integrated approach to pest management; and support for new research projects that would benefit Refuge resources and Refuge management. Alternative C, which was identified as the preferred alternative, would implement the majority of the management activities proposed in Alternative B and expand opportunities for wildlife observation on the Refuge. The primary differences in habitat management between Alternatives B and C relate to the extent of intertidal restoration proposed in Alternative B versus the extent of upland and wetland/upland transitional habitat restoration proposed in Alternative C.

We received five letters on the draft CCP and EA during the review and comment period. Comments focused on constituents of concern related to past activities on Naval Weapons Station Seal Beach, mosquito management, and habitat management and restoration. We incorporated comments we received into the CCP when appropriate, and we responded to the comments in an appendix to the CCP. In the FONSI, we selected Alternative C for implementation. The FONSI documents our decision and is based on information and analysis contained in the EA.

Under the selected alternative, the Service will expand both natural resource management and opportunities of wildlife observation on the Refuge. Wildlife and habitat management actions will be implemented to support listed species, coastal habitats, and migratory birds; native upland and wetland/upland transitional habitat will be restored to provide refugia for rails and shorebirds during high tide; and existing visitor serving facilities will be improved.

The selected alternative most effectively achieves Refuge's purposes, goals, and objectives, particularly those related to the recovery and protection of federally listed species and the enhancement of public appreciation, understanding, and enjoyment of Refuge resources; contributes to the Refuge System mission; and is consistent with principles of sound fish and wildlife management. Based on the associated environmental assessment, this alternative is not expected to result in significant environmental impacts and therefore does not require the preparation of an environmental impact statement.

Alexandra Pitts,
Acting Regional Director, Pacific Southwest Region.

[FR Doc. 2013-27405 Filed 11-14-13; 8:45 am]

BILLING CODE 4310-55-P